DEPARTMENT OF THE INTERIOR

National Park Service

[NPS-WASO-NRNHL-0411-7141; 2280-665]

National Register of Historic Places; Notification of Pending Nominations and Related Actions

Nominations for the following properties being considered for listing or related actions in the National Register were received by the National Park Service before April 9, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington DC 20005; or by fax, 202-371-6447. Written or faxed comments should be submitted by May 10, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

DISTRICT OF COLUMBIA

District of Columbia

Engine Company 16—Truck Company 3, (Firehouses in Washington DC MPS) 1018 13th St., NW., Washington, 11000281

Engine Company 22, (Firehouses in Washington DC MPS) 5760 Georgia Ave., NW., Washington, 11000282

Engine Company 26, (Firehouses in Washington DC MPS) 1340 Rhode Island Ave., NW., Washington, 11000283

Engine Company 27, (Firehouses in Washington DC MPS) 4201 Minnesota Ave., NE., Washington, 11000284

Engine Company 31, (Firehouses in Washington DC MPS) 4930 Connecticut Ave., NW., Washington, 11000285

Fire Department Headquarters—Fire Alarm Headquarters, (Firehouses in Washington DC MPS) 300 McMillan Dr., NW., Washington, 11000286

FLORIDA

Miami-Dade County

Lincoln Road Mall, 400-1100 Lincoln Rd., Washington Ave. to Alton Rd., Miami Beach, 11000287

KANSAS

Ellis County

Chestnut Street Historic District (Boundary Increase), 1302 Main St., Hays, 11000288

NEW YORK

Essex County

Wells Memorial Library, 12230 NY 9N, Upper Jay, 11000289

Otsego County

Gilbertsville Water Works, Reservoir Rd., Gilbertsville, 11000290

Rockland County

Christ Church, 416 Valentine Ave., Sparkill, 11000291

Ferdon, William, House, 270 Ferdon Ave., Piermont, 11000292

St. Lawrence County

Young Memorial Church, Jct. of School St. & NY 37, Brier Hill, 11000293

NORTH CAROLINA

Catawba County

Ridgeview Public Library, 415 1st St., SW., Hickory, 11000294

OREGON

Klamath County

Klamath County Armory & Auditorium, 1451 Main St., Klamath Falls, 11000295

VERMONT

Bennington County

Holden—Leonard Workers Housing Historic District, 121-139, 124-150 Benmont Ave. & 105-115, 117-123 Holden St., Bennington, 11000296

VIRGINIA

Richmond Independent City

Washington, George, Building, 1100 Bank St., Richmond (Independent City), 11000297

A request for REMOVAL has been made for the following resource:

NEW JERSEY

Bergen County

Anderson Street Station (Operating Passenger Railroad Stations TR) Anderson St., Hackensack, 84002520

[FR Doc. 2011-9887 Filed 4-22-11; 8:45 am]

BILLING CODE 4312-51-P